DEPARTMENT OF AGRICULTURE

Animal and Plant Health Inspection Service

7 CFR Part 319

[Docket No. APHIS-2015-0072]

RIN 0579-AE23

Importation of Tree Tomatoes From Ecuador Into the Continental United States

AGENCY: Animal and Plant Health Inspection Service, USDA.

ACTION: Proposed rule.

SUMMARY: We are proposing to amend the fruit and vegetable regulations to allow the importation of tree tomatoes from Ecuador into the continental United States. As a condition of entry, the tree tomatoes would have to be produced in accordance with a systems approach that would include requirements for importation in commercial consignments, registration and monitoring of places of production, field monitoring and pest-control practices, trapping, and inspection for quarantine pests by the national plant protection organization of Ecuador. This action would allow the importation of tree tomatoes from Ecuador while continuing to protect against the introduction of plant pests into the United States.

DATES: We will consider all comments that we receive on or before August 21, 2017.

ADDRESSES: You may submit comments by either of the following methods:

• Federal eRulemaking Portal: Go to http://www.regulations.gov/#!docketDetail;D=APHIS-2015-0072.

• Postal Mail/Commercial Delivery: Send your comment to Docket No. APHIS-2015-0072, Regulatory Analysis and Development, PPD, APHIS, Station 3A-03.8, 4700 River Road, Unit 118, Riverdale, MD 20737-1238.

Supporting documents and any comments we receive on this docket may be viewed at http://www.regulations.gov/#!docketDetail;D=APHIS-2015-0072 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Claudia Ferguson, M.S., Senior Regulatory Policy Specialist, Regulatory Coordination and Compliance, Imports, Regulations, and Manuals, PPQ, APHIS, 4700 River Road, Unit 133, Riverdale, MD 20737-1231; (301) 851-2352.

SUPPLEMENTARY INFORMATION:

Background

The regulations in “Subpart—Fruits and Vegetables” (7 CFR 319.56-1 through 319.56-77, referred to below as the regulations) prohibit or restrict the importation of fruits and vegetables into the United States from certain parts of the world to prevent the introduction and dissemination of plant pests that are new to or not widely distributed within the United States.

The national plant protection organization (NPPO) of Ecuador has requested that the Animal and Plant Health Inspection Service (APHIS) amend the regulations to allow tree tomatoes from Ecuador to be imported into the continental United States.

In evaluating Ecuador's request, we prepared a pest risk assessment (PRA) and a risk management document (RMD). Copies of the PRA and RMD may be obtained from the person listed under FOR FURTHER INFORMATION CONTACT or viewed on the Regulations.gov Web site (See ADDRESSES above for instructions for accessing Regulations.gov).

The PRA, titled “Importation of fresh tree tomato (Solanum betaceum Cavanilles) from Ecuador into the continental United States” (September 2013), analyzes the potential pest risk associated with the importation of tree tomatoes into the continental United States from Ecuador. The PRA identified four pests of quarantine significance present in Ecuador that could be introduced into the continental United States through the importation of tree tomatoes. They are:

Fruit Flies:

• South American fruit fly (Anastrepha fraterculus)

• Mediterranean fruit fly (Ceratitis capitata)

Moth:

• Tomato fruit borer (Neoleucinodes elegantalis)

Virus:

• Tamarillo mosaic virus

The PRA derives plant pest risk potential for these pests by estimating the likelihood of the introduction of each pest into the continental United States through the importation of tree tomatoes from Ecuador.

The PRA considers two pests to have high pest risk potential (A. fraterculus and C. capitata), and two to have medium risk potential (N. elegantalis and Tamarillo mosaic virus). Based on the findings of the PRA, APHIS has determined that measures beyond standard port-of-entry inspection are necessary to mitigate the risk associated with the importation of tree tomatoes from Ecuador into the continental United States. These measures are listed in the RMD and are used as the basis for the requirements of this proposed rule.

Therefore, we are proposing to amend the regulations to allow the importation of commercial consignments of tree tomatoes from Ecuador into the continental United States, subject to a systems approach. Requirements of the systems approach, which would be added to the regulations as new § 319.56-78, are discussed in the following sections.

Proposed Systems Approach

General Requirements

Proposed paragraph (a) of § 319.56-78 would set forth general requirements for the NPPO of Ecuador and for growers and packers producing the tree tomatoes for export to the continental United States.

Paragraph (a)(1) would require the NPPO of Ecuador to provide an operational workplan to APHIS that details the activities that the NPPO of Ecuador and places of production and packinghouses registered with the NPPO of Ecuador would, subject to APHIS approval of the workplan, implement to meet the requirements of the proposed systems approach. An operational workplan is an arrangement between APHIS' Plant Protection and Quarantine program and officials of the NPPO of a foreign government that specifies in detail the phytosanitary measures that will comply with U.S. regulations governing the import or export of a specific commodity. Operational workplans apply only to the signatories and establish detailed procedures and guidance for the day-to-day operations of specific import/export programs. Operational workplans also establish how specific phytosanitary issues are managed in the exporting country and make clear who is responsible for managing those issues. Operational workplans require APHIS approval.

If the operational workplan is approved, APHIS would be directly involved with the NPPO of Ecuador in monitoring and auditing the systems approach implementation. Such monitoring could involve site visits by APHIS personnel.

Proposed paragraph (a)(2) would require tree tomatoes intended for export to the continental United States to be grown by places of production registered with the NPPO of Ecuador. Proposed paragraph (a)(3) would require the tree tomatoes to be packed for export to the continental United States in pest-exclusionary packinghouses registered with the NPPO of Ecuador.

Registration of places of production and packinghouses with the NPPO of Ecuador would ensure that the NPPO exercises oversight of these locations and that the places of production and packinghouses continuously follow the provisions of the export program. It would also facilitate traceback in the event that tree tomatoes from Ecuador are determined to be infested with quarantine pests.

Proposed paragraph (a)(4) would require the NPPO of Ecuador to maintain all forms and documents related to export program activities in registered places of production and packinghouses for at least 1 year and provide them to APHIS upon request. Such forms and documents would include (but would not be limited to) records regarding fruit fly trapping in registered places of production and records regarding pest detections in registered places of production and registered packinghouses. Based on APHIS' review of the records, we may monitor places of production and packinghouses as we deem warranted.

Proposed paragraph (a)(5) would require the identity of each lot of tree tomato from Ecuador destined for export to the continental United States to be maintained throughout the export process, from the place of production to the release for entry in the continental United States. The operational workplan would have to describe the means of identification used that allows the lot to be traced back to its place of production. This requirement would facilitate traceback in the event that quarantine pests are discovered in a lot of tree tomatoes destined for export to the United States. This, in turn, would help ensure that timely remedial measures are taken to address the plant pest risk at the place of production and preclude the further export of infested fruit from that place of production.

Proposed paragraph (a)(6) states that tree tomatoes from Ecuador may be imported in commercial consignments only. Produce grown commercially is less likely to be infested with plant pests than noncommercial consignments. Noncommercial consignments are more prone to infestation because the commodity is often ripe to overripe and is often grown with little to no pest control. Commercial consignments, as defined within the regulations, are consignments that an inspector identifies as having been imported for sale and distribution. Such identification is based on a variety of indicators, including, but not limited to: quantity of produce, type of packaging, identification of grower or packinghouse on the packaging, and documents consigning the fruits or vegetables to a wholesaler or retailer.

Proposed paragraph (a)(7) would provide that lots of tree tomatoes destined for export to the continental United States must be safeguarded during movement from registered places of production to registered packinghouses, and from registered packinghouses to arrival at the port of entry into the continental United States as specified by the operational workplan. Such safeguarding could include the use of pest-proof screens or tarpaulins to cover the lots during transit, or other similar measures approved by APHIS and the NPPO of Ecuador.

Place of Production Requirements

Our systems approach would require certain measures to take place at the registered places of production. Proposed paragraph (b) of § 319.56-78 would contain these requirements and measures.

Proposed paragraph (b)(1) would require that registered places of production of tree tomatoes destined for export to the continental United States be determined by APHIS and the NPPO of Ecuador to be free from A. fraterculus and C. capitata based on trapping conducted in accordance with the operational workplan. Pest free places of production are defined by the number of fruit flies captured in a given timeframe; in this case, the operational workplan would specify that only one fruit fly would be permitted to be trapped in the place of production per week. Trapping must begin at least 1 year prior to harvest and continue throughout the completion of harvest. Traps must be serviced every 7 days. If the number of flies per trap per day exceed levels specified in the operational workplan, the place of production will be prohibited from exporting tree tomatoes to the continental United States until APHIS and the NPPO of Ecuador jointly agree that the risk has been mitigated. The NPPO must keep records regarding the placement and monitoring of all traps, as well as records of all pest detections in these traps, for at least 1 year and provide the records to APHIS upon request.

Establishment of fruit fly pest free places of production, in combination with other measures, obviates the need for post-harvest commodity treatments to achieve phytosanitary security. APHIS has only in rare instances intercepted fruit flies in tree tomatoes. Although tree tomatoes are considered to be poor hosts to A. fraterculus and C. capitata, we would require that tree tomatoes be produced in places of production practically free of fruit flies, i.e., fruit fly populations would have to be maintained below a threshold of 0.07 fruit flies per trap per day. Places of production would have to provide 1 year of trapping data with a result of low prevalence throughout the year in order to become a registered place of production.

Proposed paragraph (b)(2) would require registered places of production to remove fallen tree tomato fruit in accordance with the operational workplan. It would also prohibit fallen fruit from being included in field containers of fruit brought to the packinghouse to be packed for export. Fallen fruit are especially susceptible to quarantine pests.

Proposed paragraph (b)(3) would require fields at registered places of production to be inspected by the NPPO of Ecuador at least once during the growing season for Tamarillo mosaic virus. Sites must be determined by the NPPO to be free of the virus as a result of these inspections.

Tamarillo mosaic virus is transmitted primarily by contact between mechanical inoculations and grafting, but cannot be transmitted between plants or by seeds. Tamarillo mosaic virus reduces fruit yields and causes disfiguring blotches on the skin of the tree tomato fruit, which lowers the value of the fruit. Visual inspections at registered places of production for Tamarillo mosaic virus will provide the appropriate level of protection for the United States.

Proposed paragraph (b)(4) would require the NPPO of Ecuador to visit and inspect registered places of production monthly, starting 60 days before harvest and continuing throughout the shipping season, for signs of infestation and to allow APHIS to monitor these inspections. The NPPO of Ecuador must also certify to APHIS that registered places of production have in place effective fruit fly trapping programs and control guidelines to reduce pest populations.

Proposed paragraph (b)(5) would provide that if APHIS or the NPPO of Ecuador determined that a registered place of production has failed to follow the requirements of the regulations, the place of production would be excluded from the export program until APHIS and the NPPO of Ecuador jointly agree that the place of production has taken appropriate remedial measures to address the plant pest risk.

Packinghouse Requirements

Proposed paragraph (c) of § 319.56-78 would set forth requirements for mitigation measures that would have to occur at registered packinghouses.

Proposed paragraph (c)(1) would require that, while a registered packinghouse is in use for packing tree tomatoes for export to the continental United States, the packinghouse can only accept tree tomatoes that are from registered places of production that have been produced in accordance with proposed § 319.56-78. Tree tomatoes from other places of production may be produced under conditions that are less stringent than those of this proposed rule, and may therefore be a pathway for introduction of quarantine pests into the packinghouses.

Proposed paragraph (c)(2) would require that tree tomatoes must be packed in insect-proof cartons or containers or covered with insect-proof mesh or plastic tarpaulin within 24 hours of harvest. These safeguards would have to remain intact until the tree tomatoes arrive in the United States, or the consignment would not be allowed to enter the United States. These requirements collectively would aid in preventing the tree tomatoes from becoming infested with plant pests during, or subsequent, to packing.

Proposed paragraph (c)(3) would require that all openings to the outside of the packinghouse must be covered by screening with openings of not more than 1.6 mm or by some other barrier that prevents pests from entering. The packinghouse must have double doors at the entrance to the facility and at the interior entrance to the area where the tree tomatoes are packed.

Phytosanitary Inspections

Proposed paragraph (d) of § 319.56-78 would require the NPPO of Ecuador or officials authorized by the NPPO of Ecuador to visually inspect a biometric sample of tree tomato fruit in accordance with the operational workplan following post-harvest processing. The sample would have to be visually inspected for N. elegantalis and Tamarillo mosaic virus. A portion of the fruit would then have to be cut open and inspected for A. fraterculus and C. capitata. Cutting the fruit open would allow inspectors to determine whether the fruit is infested with A. fraterculus or C. capitata larvae.

Proposed paragraph (d)(1) would state that if N. elegantalis is found, the entire lot of fruit will be prohibited from import into the United States unless it is treated with an approved quarantine treatment monitored by APHIS.

Proposed paragraph (d)(2) would state that if Tamarillo mosaic virus is found, the entire lot of fruit will be prohibited from importation into the United States.

Proposed paragraph (d)(3) would state that if A. fraterculus or C. capitata is found, the entire lot of fruit will be prohibited from importation to the United States and the place of production producing that fruit will be suspended from the export program until appropriate measures, as agreed upon by the NPPO of Ecuador and APHIS, have been taken.

Phytosanitary Certificate

Proposed paragraph (e) of § 319.56-78 would require that each consignment of fresh tree tomato fruit from Ecuador be accompanied by a phytosanitary certificate issued by the NPPO of Ecuador containing an additional declaration that the tomatoes were produced in accordance with the requirements § 319.56-78, and have been inspected and found free of A. fraterculus, C. capitata, N. elegantalis, and Tamarillo mosaic virus.

Under the general conditions for the importation of fruits and vegetables in § 319.56-3, each consignment of tree tomatoes would be subject to further inspection at the port entry into the United States.

Executive Orders 12866 and 13771 and Regulatory Flexibility Act

This proposed rule has been determined to be not significant for the purposes of Executive Order 12866 and, therefore, has not been reviewed by the Office of Management and Budget. Further, because this proposed rule is not significant, it does not trigger the requirements of Executive Order 13771.

In accordance with the Regulatory Flexibility Act, we have analyzed the potential economic effects of this action on small entities. The analysis is summarized below. Copies of the full analysis are available by contacting the person listed under FOR FURTHER INFORMATION CONTACT or on the Regulations.gov Web site (see ADDRESSES above for instructions for accessing Regulations.gov).

The tree tomato is not grown in the United States, so there would be no impacts of the proposed rule for U.S. producers. In 2014, the U.S. imported an estimated 130,000 pounds of this fruit from various countries. Based on conversations with Ecuadoran officials, and Ecuador's tree tomato production capabilities and established markets, we estimate that 10 percent or less of current exports would be diverted to the United States. Assuming an average market price of $3 per pound, based on the import price for tree tomato from New Zealand, and a quantity of at most 15 shipments or 11,250 pounds, the value of tree tomato imports from Ecuador may reach approximately $34,000 annually.

Under these circumstances, the Administrator of the Animal and Plant Health Inspection Service has determined that this action would not have a significant economic impact on a substantial number of small entities.

Executive Order 12988

This proposed rule would allow fresh tree tomato fruit to be imported into the continental United States from Ecuador. If this proposed rule is adopted, State and local laws and regulations regarding tree tomato fruit imported under this rule would be preempted while the fruit is in foreign commerce. Fresh fruits are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), reporting and recordkeeping requirements included in this proposed rule have been submitted for approval to the Office of Management and Budget (OMB). Please send comments on the Information Collection Request (ICR) to OMB's Office of Information and Regulatory Affairs via email to oira_submissions@omb.eop.gov, Attention: Desk Officer for APHIS, Washington, DC 20503. Please state that your comments refer to Docket No. APHIS-2015-0072. Please send a copy of your comments to the USDA using one of the methods described under ADDRESSES at the beginning of this document.

APHIS is proposing to amend the fruit and vegetable regulations to allow the importation of tree tomato from Ecuador into the continental United States. As a condition of entry, the tree tomatoes would have to be produced in accordance with a systems approach that would include requirements for importation in commercial consignments, registration and monitoring of places of production, field monitoring and pest-control practices, trapping, and inspection for quarantine pests by the NPPO of Ecuador.

Implementing this rule will require an operational workplan, production site and packinghouse registrations, recordkeeping, identification, trapping, inspections, and phytosanitary certificates.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 0.4092 hours per response.

Respondents: Producers and importers of tree tomatoes from Ecuador and the NPPO of Ecuador.

Estimated annual number of respondents: 42.

Estimated annual number of responses per respondent: 40.

Estimated annual number of responses: 1,681.

Estimated total annual burden on respondents: 688 hours. (Due to averaging, the total annual burden hours may not equal the product of the annual number of responses multiplied by the reporting burden per response.)

A copy of the information collection may be viewed on the Regulations.gov Web site or in our reading room. (A link to Regulations.gov and information on the location and hours of the reading room are provided under the heading ADDRESSES at the beginning of this proposed rule.) Copies can also be obtained from Ms. Kimberly Hardy, APHIS' Information Collection Coordinator, at (301) 851-2483. APHIS will respond to any ICR-related comments in the final rule. All comments will also become a matter of public record.

E-Government Act Compliance

The Animal and Plant Health Inspection Service is committed to compliance with the E-Government Act to promote the use of the Internet and other information technologies, to provide increased opportunities for citizen access to Government information and services, and for other purposes. For information pertinent to E-Government Act compliance related to this proposed rule, please contact Ms. Kimberly Hardy, APHIS' Information Collection Coordinator, at (301) 851-2483.

List of Subjects in 7 CFR Part 319

Coffee, Cotton, Fruits, Imports, Logs, Nursery stock, Plant diseases and pests, Quarantine, Reporting and recordkeeping requirements, Rice, Vegetables.

Accordingly, we propose to amend 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. Section 319.56-78 is added to read as follows:

§ 319.56-78 Tree tomatoes from Ecuador.

Fresh tree tomatoes (Solanum betaceum Cavanilles) may be imported into the continental United States from Ecuador only under the conditions of this systems approach described in this section. These conditions are designed to prevent the introduction of the following quarantine pests: Anastrepha fraterculus, South American fruit fly; Ceratitis capitata, Mediterranean fruit fly; Neoleucinodes elegantalis, a moth; and the Tamarillo mosaic virus.

(a) General requirements. (1) Operational workplan. The national plant protection organization (NPPO) of Ecuador must provide an operational workplan to APHIS that details the activities that the NPPO of Ecuador will carry out to meet the requirements of this section. The operational workplan must be approved by APHIS and include and describe specific requirements as set forth in this section. APHIS will be directly involved with the NPPO of Ecuador in monitoring and auditing implementation of the systems approach.

(2) Registered places of production. Tree tomatoes considered for export to the continental United States must be produced at places of production that are registered with the NPPO of Ecuador.

(3) Registered packinghouses. Tree tomatoes must be packed for export to the continental United States in pest-exclusionary packinghouses that are registered with the NPPO of Ecuador.

(4) Recordkeeping. The NPPO of Ecuador must maintain all forms and documents related to export program activities in registered places of production and packinghouses for at least 1 year and provide them to APHIS upon request.

(5) Identification. The identity of each lot of tree tomatoes from Ecuador must be maintained throughout the export process, from the place of production until the tomatoes are released for entry into the continental United States. The means of identification that allows the lot to be traced back to the place of production in which it was produced, and the packinghouse in which it was packed, must be described in the operational workplan.

(6) Commercial consignments. Tree tomatoes from Ecuador may be imported in commercial consignments only.

(7) Safeguarding. Lots of tree tomatoes destined for export to the continental United States must be safeguarded during movement from registered places of production to registered packinghouses, and from registered packinghouses to arrival at the port of entry into the continental United States, as specified by the operational workplan.

(b) Places of production requirements. (1) Registered places of production of tree tomatoes destined for export to the continental United States must be determined by APHIS and the NPPO of Ecuador to be free from A. fraterculus and C. capitata based on trapping conducted in accordance with the operational workplan. If the flies per trap per day exceed levels specified in the operational workplan, the place of production will be prohibited from exporting tree tomatoes to the continental United States until APHIS and the NPPO of Ecuador jointly agree that the risk has been mitigated. The NPPO must keep records regarding the placement and monitoring of all traps, as well as records of all pest detections in these traps, for at least 1 year and provide the records to APHIS, upon request.

(2) Places of production must remove fallen tree tomato fruit in accordance with the operational workplan. Fallen fruit may not be included in field containers of fruit brought to the packinghouse to be packed for export.

(3) The NPPO of Ecuador must inspect fields at registered places of production at least once during the growing season for Tamarillo mosaic virus. Sites must be determined by the NPPO to be free of the virus as a result of these inspections.

(4) Starting 60 days before harvest and continuing throughout the shipping season, the NPPO of Ecuador must visit and inspect registered places of production monthly for signs of infestation. The NPPO of Ecuador must allow APHIS to monitor these inspections. The NPPO of Ecuador must also certify to APHIS that registered places of production have effective fruit fly trapping programs and control guidelines in place to reduce pest populations.

(5) If APHIS or the NPPO of Ecuador determines that a registered place of production has failed to follow the requirements in this paragraph (b), the place of production will be excluded from the export program until APHIS and the NPPO of Ecuador jointly agree that the place of production has taken appropriate remedial measures to address the plant pest risk.

(c) Packinghouse requirements. (1) During the time registered packinghouses are in use for packing tree tomatoes for export to the continental United States, the packinghouse can only accept tree tomatoes that are from registered places of production and that are produced in accordance with this section.

(2) Tree tomatoes must be packed in insect-proof cartons or containers, or covered with insect-proof mesh or plastic tarpaulin, within 24 hours of harvest. These safeguards must remain intact until the tree tomatoes arrive in the United States, or the consignment will not be allowed to enter the United States.

(3) All openings to the outside of the packinghouse must be covered by screening with openings of not more than 1.6 mm or by some other barrier that prevents pests from entering. The packinghouse must have double doors at the entrance to the facility and at the interior entrance to the area where the tree tomatoes are packed.

(d) Phytosanitary inspections. A biometric sample of tree tomato fruit jointly agreed upon by the NPPO of Ecuador and APHIS must be inspected in Ecuador by the NPPO of Ecuador or officials authorized by the NPPO of Ecuador following post-harvest processing. The sample must be visually inspected for N. elegantalis and Tamarillo mosaic virus. A portion of the fruit must then be cut open and inspected for A. fraterculus and C. capitata.

(1) If N. elegantalis is found, the entire lot of fruit will be prohibited from import into the United States unless it is treated with an approved quarantine treatment monitored by APHIS.

(2) If Tamarillo mosaic virus is found, the entire lot of fruit will be prohibited from importation into the United States.

(3) If a single larva of A. fraterculus or C. capitata is found, the entire lot of fruit will be prohibited from importation to the United States and the place of production producing that fruit will be suspended from the export program until appropriate measures, as agreed upon by the NPPO of Ecuador and APHIS, have been taken.

(e) Phytosanitary certificate. Each consignment of fresh tree tomato fruit from Ecuador must be accompanied by a phytosanitary certificate, issued by the NPPO of Ecuador, that contains an additional declaration that the tomatoes were produced in accordance with the requirements of this section, and have been inspected and found free of A. fraterculus, C. capitata, N. elegantalis, and the Tamarillo mosaic virus.

Done in Washington, DC, this 16th day of June 2017.
Jere L. Dick,
Acting Administrator, Animal and Plant Health Inspection Service.

[FR Doc. 2017-12944 Filed 6-20-17; 8:45 am]

BILLING CODE 3410-34-P